SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: June 1-30, 2015.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule Issued Under 18 CFR 806.22(f)

1. Chief Oil & Gas, LLC, Pad ID: B & B Investment Group Drilling Pad #1, ABR-201010068.R1, Asylum Township, Bradford County, Pa.; Consumptive Use of Up to 2.000 mgd; Approval Date: June 1, 2015.

2. Range Resources—Appalachia, LLC, Pad ID: Mohawk Lodge Unit, ABR-20100619.R1, Gallagher Township, Clinton County, Pa.; Consumptive Use of Up to 5.000 mgd; Approval Date: June 1, 2015.

3. SWEPI LP, Pad ID: Vandergrift 290, ABR-20100442.R1, Charleston Township, Tioga County, Pa.; Consumptive Use of Up to 4.000 mgd; Approval Date: June 1, 2015.

4. Talisman Energy USA Inc., Pad ID: Gardiner 01 071, ABR-20100522.R1, Troy Township, Bradford County, Pa.; Consumptive Use of Up to 6.000 mgd; Approval Date: June 1, 2015.

5. Talisman Energy USA Inc., Pad ID: Vanblarcom 03 054, ABR-20100523.R1, Columbia Township, Bradford County, Pa.; Consumptive Use of Up to 6.000 mgd; Approval Date: June 1, 2015.

6. Talisman Energy USA Inc., Pad ID: Cole 03 016, ABR-20100549.R1, Columbia Township, Bradford County, Pa.; Consumptive Use of Up to 6.000 mgd; Approval Date: June 1, 2015.

7. Talisman Energy USA Inc., Pad ID: Wilber 03 065, ABR-20100552.R1, Columbia Township, Bradford County, Pa.; Consumptive Use of Up to 6.000 mgd; Approval Date: June 1, 2015.

8. XTO Energy Incorporated, Pad ID: Moser 8521H, ABR-20100641.R1, Franklin Township, Lycoming County, Pa.; Consumptive Use of Up to 4.000 mgd; Approval Date: June 1, 2015.

9. Chesapeake Appalachia, LLC, Pad ID: Gregory, ABR-201011004.R1, Wysox Township, Bradford County, Pa.; Consumptive Use of Up to 7.500 mgd; Approval Date: June 2, 2015.

10. Seneca Resources Corporation, Pad ID: DCNR 595 1V, ABR-20090432.R1, Bloss Township, Tioga County, Pa.; Consumptive Use of Up to 0.099 mgd; Approval Date: June 2, 2015.

11. Seneca Resources Corporation, Pad ID: Wilcox (TEOG 1), ABR-20090433.R1, Covington Township, Tioga County, Pa.; Consumptive Use of Up to 0.099 mgd; Approval Date: June 2, 2015.

12. Seneca Resources Corporation, Pad ID: Wilcox Pad F, ABR-20090505.R1, Covington Township, Tioga County, Pa.; Consumptive Use of Up to 4.000 mgd; Approval Date: June 2, 2015.

13. Seneca Resources Corporation, Pad ID: J. Pino Pad G, ABR-20090717.R1, Covington Township, Tioga County, Pa.; Consumptive Use of Up to 4.000 mgd; Approval Date: June 2, 2015.

14. Seneca Resources Corporation, Pad ID: T. Wivell Horizontal Pad, ABR-20090814.R1, Covington Township, Tioga County, Pa.; Consumptive Use of Up to 4.000 mgd; Approval Date: June 2, 2015.

15. Seneca Resources Corporation, Pad ID: D.M. Pino Pad H, ABR-20090933.R1, Covington Township, Tioga County, Pa.; Consumptive Use of Up to 4.000 mgd; Approval Date: June 2, 2015.

16. Seneca Resources Corporation, Pad ID: Murray Pad A, ABR-20100317.R1, Richmond Township, Tioga County, Pa.; Consumptive Use of Up to 4.000 mgd; Approval Date: June 2, 2015.

17. SWEPI LP, Pad ID: Fowler 6707, ABR-20100405.R1, West Branch Township, Potter County, Pa.; Consumptive Use of Up to 4.990 mgd; Approval Date: June 2, 2015.

18. SWEPI LP, Pad ID: State 6721, ABR-20100440.R1, Elk Township, Tioga County, Pa.; Consumptive Use of Up to 4.990 mgd; Approval Date: June 2, 2015.

19. SWEPI LP, Pad ID: Gee 832, ABR-20100444.R1, Middlebury Township, Tioga County, Pa.; Consumptive Use of Up to 4.000 mgd; Approval Date: June 2, 2015.

20. XTO Energy Incorporated, Pad ID: MARQUARDT 8534H, ABR-20100664.R1, Penn Township, Lycoming County, Pa.; Consumptive Use of Up to 4.000 mgd; Approval Date: June 2, 2015.

21. EQT Production Company, Pad ID: Ginger, ABR-201506001, Jay Township, Elk County, Pa.; Consumptive Use of Up to 5.000 mgd; Approval Date: June 8, 2015.

22. Cabot Oil & Gas Corporation, Pad ID: ForwoodE P1, ABR-201506002, Lenox Township, Susquehanna County, Pa.; Consumptive Use of Up to 4.250 mgd; Approval Date: June 8, 2015.

23. Cabot Oil & Gas Corporation, Pad ID: FergusonA P1, ABR-201506003, Harford Township, Susquehanna County, Pa.; Consumptive Use of Up to 4.250 mgd; Approval Date: June 8, 2015.

24. Pennsylvania General Energy Company, LLC, Pad ID: Reed Run Norwich Pad D, ABR-201012028.R1, Norwich Township, McKean County, Pa.; Consumptive Use of Up to 3.500 mgd; Approval Date: June 12, 2015.

25. Warren Marcellus, LLC, Pad ID: Ruark East 1 1H, ABR-201008001.R1, Washington Township, Wyoming County, Pa.; Consumptive Use of Up to 5.000 mgd; Approval Date: June 12, 2015.

26. Warren Marcellus, LLC, Pad ID: Mirabelli Pad 1-1H, ABR-201008138.R1, Washington Township, Wyoming County, Pa.; Consumptive Use of Up to 5.000 mgd; Approval Date: June 12, 2015.

27. Warren Marcellus, LLC, Pad ID: P&G Warehouse 1-1H, ABR-201008156.R1, Meshoppen Township, Wyoming County, Pa.; Consumptive Use of Up to 5.000 mgd; Approval Date: June 12, 2015.

28. Chesapeake Appalachia, LLC, Pad ID: Weisbrod, ABR-201011010.R1, Sheshequin Township, Bradford County, Pa.; Consumptive Use of Up to 7.500 mgd; Approval Date: June 15, 2015.

29. Chesapeake Appalachia, LLC, Pad ID: Zaleski, ABR-201011021.R1, Asylum Township, Bradford County, Pa.; Consumptive Use of Up to 7.500 mgd; Approval Date: June 15, 2015.

30. SWEPI LP, Pad ID: Johnson 434, ABR-20100501.R1, Shippen Township, Tioga County, Pa.; Consumptive Use of Up to 4.000 mgd; Approval Date: June 15, 2015.

31. SWEPI LP, Pad ID: Red Run Mountain 736, ABR-20100502.R1, McIntyre Township, Lycoming County, Pa.; Consumptive Use of Up to 4.000 mgd; Approval Date: June 15, 2015.

32. SWEPI LP, Pad ID: Newlin 476, ABR-20100503.R1, Charleston Township, Tioga County, Pa.; Consumptive Use of Up to 4.000 mgd; Approval Date: June 15, 2015.

33. SWEPI LP, Pad ID: Walker 438, ABR-20100516.R1, Shippen Township, Tioga County, Pa.; Consumptive Use of Up to 4.000 mgd; Approval Date: June 15, 2015.

34. SWEPI LP, Pad ID: Dandois 482, ABR-20100517.R1, Sullivan Township, Tioga County, Pa.; Consumptive Use of Up to 4.000 mgd; Approval Date: June 15, 2015.

35. XTO Energy Incorporated, Pad ID: Jenzano, ABR-20090713.R1, Franklin Township, Lycoming County, Pa.; Consumptive Use of Up to 3.000 mgd; Approval Date: June 15, 2015.

36. Energy Corporation of America, Pad ID: Whitetail Gun & Rod Club #1, ABR-20090418.R1, Goshen Township, Clearfield County, Pa.; Consumptive Use of Up to 0.900 mgd; Approval Date: June 16, 2015.

37. EXCO Resources (PA), LLC, Pad ID: Flook Drilling Pad #1, ABR-20100505.R1, Mifflin Township, Lycoming County, Pa.; Consumptive Use of Up to 2.000 mgd; Approval Date: June 16, 2015.

38. XTO Energy Incorporated, Pad ID: Lucella 8564H, ABR-201009074.R1, Moreland Township, Lycoming County, Pa.; Consumptive Use of Up to 4.000 mgd; Approval Date: June 16, 2015.

39. Chief Oil & Gas, LLC, Pad ID: PMG God Drilling Pad #1, ABR-201011068.R1, Asylum Township, Bradford County, Pa.; Consumptive Use of Up to 2.000 mgd; Approval Date: June 17, 2015.

40. XTO Energy Incorporated, Pad ID: Hazlak, ABR-20090715.R1, Shrewsbury Township, Lycoming County, Pa.; Consumptive Use of Up to 3.000 mgd; Approval Date: June 17, 2015.

41. EOG Resources, Inc., Pad ID: PHC Pad A, ABR-20100353.R1, Lawrence Township, Clearfield County, Pa.; Consumptive Use of Up to 4.999 mgd; Approval Date: June 22, 2015.

42. EOG Resources, Inc., Pad ID: PHC 21V, ABR-20100427.R1, Lawrence Township, Clearfield County, Pa.; Consumptive Use of Up to 0.999 mgd; Approval Date: June 22, 2015.

43. Inflection Energy (PA), LLC, Pad ID: Hensler Well Site, ABR-201506004, Hepburn Township, Lycoming County, Pa.; Consumptive Use of Up to 4.000 mgd; Approval Date: June 22, 2015.

44. Seneca Resources Corporation, Pad ID: Gamble Pad P, ABR-201506005, Hepburn Township, Lycoming County, Pa.; Consumptive Use of Up to 4.000 mgd; Approval Date: June 22, 2015.

45. Seneca Resources Corporation, Pad ID: Gamble Pad C, ABR-201506006, Gamble Township, Lycoming County, Pa.; Consumptive Use of Up to 4.000 mgd; Approval Date: June 22, 2015.

46. SWEPI LP, Pad ID: Patel 914, ABR-20100529.R1, Abbott Township, Potter County, Pa.; Consumptive Use of Up to 4.990 mgd; Approval Date: June 22, 2015.

47. SWEPI LP, Pad ID: Greenwood Hunting Lodge 427, ABR-20100532.R1, McIntyre Township, Lycoming County, Pa.; Consumptive Use of Up to 4.000 mgd; Approval Date: June 22, 2015.

48. SWEPI LP, Pad ID: Simonetti 817 (rev), ABR-20100545.R1, Gaines Township, Tioga County, Pa.; Consumptive Use of Up to 4.990 mgd; Approval Date: June 22, 2015.

49. SWEPI LP, Pad ID: Breon 492, ABR-20100553.R1, Sullivan Township, Tioga County, Pa.; Consumptive Use of Up to 4.000 mgd; Approval Date: June 22, 2015.

50. SWEPI LP, Pad ID: Coon Hollow 904, ABR-20100560.R1, West Branch Township, Potter County, Pa.; Consumptive Use of Up to 4.990 mgd; Approval Date: June 22, 2015.

51. SWEPI LP, Pad ID: Parker 727, ABR-201203022.R1, Liberty Township, Tioga County, Pa.; Consumptive Use of Up to 4.000 mgd; Approval Date: June 22, 2015.

52. Chesapeake Appalachia, LLC, Pad ID: Yvonne, ABR-201010015.R1, Rush Township, Susquehanna County, Pa.; Consumptive Use of Up to 7.500 mgd; Approval Date: June 25, 2015.

53. Chesapeake Appalachia, LLC, Pad ID: Tama, ABR-201010057.R1, North Towanda Township, Bradford County, Pa.; Consumptive Use of Up to 7.500 mgd; Approval Date: June 25, 2015.

54. EOG Resources, Inc., Pad ID: HARKNESS 2H, ABR-20091220.R1, Springfield Township, Bradford County, Pa.; Consumptive Use of Up to 1.999 mgd; Approval Date: June 25, 2015.

55. EOG Resources, Inc., Pad ID: COP Pad A, ABR-20100531.R1, Lawrence Township, Clearfield County, Pa.; Consumptive Use of Up to 4.999 mgd; Approval Date: June 25, 2015.

56. EOG Resources, Inc., Pad ID: PHC Pad B, ABR-20100352.R1, Lawrence Township, Clearfield County, Pa.; Consumptive Use of Up to 4.999 mgd; Approval Date: June 25, 2015.

57. EOG Resources, Inc., Pad ID: REITER 1H Pad, ABR-201008048.R1, Ridgebury Township, Bradford County, Pa.; Consumptive Use of Up to 4.999 mgd; Approval Date: June 25, 2015.

58. EOG Resources, Inc., Pad ID: JANOWSKY 1H, ABR-201008054.R1, Ridgebury Township, Bradford County, Pa.; Consumptive Use of Up to 4.999 mgd; Approval Date: June 25, 2015.

59. EOG Resources, Inc., Pad ID: KINGSLEY 4H, ABR-201008079.R1, Springfield Township, Bradford County, Pa.; Consumptive Use of Up to 4.999 mgd; Approval Date: June 25, 2015.

60. EOG Resources, Inc., Pad ID: MELCHIONNE 1H Pad, ABR-201008087.R1, Ridgebury Township, Bradford County, Pa.; Consumptive Use of Up to 4.999 mgd; Approval Date: June 25, 2015.

61. EOG Resources, Inc., Pad ID: SEAMAN 1H Pad, ABR-201008091.R1, Ridgebury Township, Bradford County, Pa.; Consumptive Use of Up to 4.999 mgd; Approval Date: June 25, 2015.

62. EOG Resources, Inc., Pad ID: MICCIO 1H Pad, ABR-201008119.R1, Ridgebury Township, Bradford County, Pa.; Consumptive Use of Up to 4.999 mgd; Approval Date: June 25, 2015.

63. EOG Resources, Inc., Pad ID: JACKSON 1H Pad, ABR-201009053.R1, Springfield Township, Bradford County, Pa.; Consumptive Use of Up to 4.999 mgd; Approval Date: June 25, 2015.

64. EOG Resources, Inc., Pad ID: NICHOLS 2H Pad, ABR-201107020.R1, Smithfield Township, Bradford County, Pa.; Consumptive Use of Up to 4.999 mgd; Approval Date: June 25, 2015.

65. EXCO Resources (PA), LLC, Pad ID: Warburton Unit #1H Drilling Pad, ABR-20090816.R1, Penn Township, Lycoming County, Pa.; Consumptive Use of Up to 5.000 mgd; Approval Date: June 25, 2015.

66. EOG Resources, Inc., Pad ID: Houseknecht 2H, ABR-20090419.R1, Springfield Township, Bradford County, Pa.; Consumptive Use of Up to 0.490 mgd; Approval Date: June 25, 2015.

67. EOG Resources, Inc., Pad ID: JENKINS 1H, ABR-20100426.R1, Springfield Township, Bradford County, Pa.; Consumptive Use of Up to 1.999 mgd; Approval Date: June 25, 2015.

68. EOG Resources, Inc., Pad ID: PHC Pad Q, ABR-20100551.R1, Lawrence Township, Clearfield County, Pa.; Consumptive Use of Up to 4.999 mgd; Approval Date: June 25, 2015.

69. EOG Resources, Inc., Pad ID: COP Pad B, ABR-20100645.R1, Lawrence Township, Clearfield County, Pa.; Consumptive Use of Up to 4.999 mgd; Approval Date: June 25, 2015.

70. EOG Resources, Inc., Pad ID: PHC Pad T, ABR-201009039.R1, Lawrence Township, Clearfield County, Pa.; Consumptive Use of Up to 4.999 mgd; Approval Date: June 25, 2015.

71. EXCO Resources (PA), LLC, Pad ID: Falk Unit #1H, ABR-20090920.R1, Penn Township, Lycoming County, Pa.; Consumptive Use of Up to 5.000 mgd; Approval Date: June 25, 2015.

Authority: Pub. L. 91-575, 84 Stat. 1509 et seq., 18 CFR parts 806, 807, and 808.

Dated: July 23, 2015.
Stephanie L. Richardson,
Secretary to the Commission.

[FR Doc. 2015-18521 Filed 7-28-15; 8:45 am]

BILLING CODE 7040-01-P